DEPARTMENT OF THE INTERIOR

Bureau of Indian Affairs

Advisory Board for Exceptional Children

AGENCY: Bureau of Indian Affairs, Interior.

ACTION: Notice of meeting.

SUMMARY: The Bureau of Indian Education (BIE) is announcing that the Advisory Board for Exceptional Children (Advisory Board) will hold its next meeting in Washington, DC. The purpose of the meeting is to meet the mandates of the Individuals with Disabilities Education Act of 2004 (IDEA) for Indian children with disabilities.

DATES: The Advisory Board will meet on Thursday, September 2, 2010, from 8:30 a.m. to 4:30 p.m.; Friday, September 3, 2010, from 8:30 a.m. to 4:30 p.m. and Saturday, September 4, 2010, from 8 a.m. to noon Eastern Time.

ADDRESSES: The Thursday, September 2, 2010, and Friday, September 3, 2010, meetings will be held at 1849 C Street, NW., MS-3609 Main Interior Building, Washington, DC 20240; telephone (202) 208-6123. The Saturday, September 4, meeting will be held at the J.W. Marriott Hotel, 1331 Pennsylvania Avenue, NW., Washington, DC 20004; telephone (202) 393-2000.

FOR FURTHER INFORMATION CONTACT: Sue Bement, Designated Federal Official, Bureau of Indian Education, Albuquerque Service Center, Division of Performance and Accountability, 1011 Indian School Road NW., P.O. Box 1088, Suite 332, Albuquerque, NM 87103; telephone number (505) 563-5274.

SUPPLEMENTARY INFORMATION: In accordance with the Federal Advisory Committee Act, the BIE is announcing that the Advisory Board will hold its next meeting in Washington, DC. The Advisory Board was established under the Individuals with Disabilities Act of 2004 (20 U.S.C. 1400 et seq.) to advise the Secretary of the Interior, through the Assistant Secretary-Indian Affairs, on the needs of Indian children with disabilities. The meetings are open to the public.

The following items will be on the agenda:

• Discussion with Mr. Keith Moore, BIE Director.

• Public Comment (via conference call, September 2, 2010, meeting only*).

• Report from Gloria Yepa, Supervisory Education Specialist, BIE, Division of Performance and Accountability.

• National Secondary Transition Technical Assistance Center debriefing.

• Work on BIE Advisory Board Annual Report.

• Discussion and Approval of Charter and By-Laws.

• Schoolwide Positive Behavior Supports Program Presentation by Dr. Jeff Sprague, Gaye Leia King, and Jack Edmo.

• BIE Advisory Board Advice and Recommendations.

* During the September 2, 2010, meeting, time has been set aside for public comment via conference call from 1-1:30 p.m. Eastern Time. The call-in information is: Conference Number 1-888-387-8686, Passcode 4274201.

Dated: August 6, 2010.
Larry Echo Hawk,
Assistant Secretary—Indian Affairs.

[FR Doc. 2010-20293 Filed 8-16-10; 8:45 am]

BILLING CODE 4310-6W-P